DEPARTMENT OF LABOR

Mine Safety and Health Administration

Proposed Information Collection Request Submitted for Public Comment and Recommendations; Testing, Evaluation and Approval of Mining Products

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before July 5, 2005.

ADDRESSES: Send comments to U.S. Department of Labor, Mine Safety and Health Administration, John Rowlett, Director, Management Services Division, 1100 Wilson Boulevard, Room 2134, Arlington, VA 22209-3939. Commenters are encouraged to send their comments on a computer disk, or via Internet e-mail to Rowlett.John@dol.gov, along with an original printed copy. Mr. Rowlett can be reached at (202) 693-9827 (voice), or (202) 693-9801 (facsimile).

FOR FURTHER INFORMATION CONTACT: Contact the employee listed in the ADDRESSES section of this notice.

SUPPLEMENTARY INFORMATION:

I. Background

The Mine Safety and Health Administration (MSHA) is responsible for the inspection, testing, approval and certification, and quality control of mining equipment and components, materials, instruments, and explosives used in both underground and surface coal, metal, and nonmetal mines. Title 30 CFR parts 6 through 36 contain procedures by which manufacturers may apply for and have equipment approved as “permissible” for use in mines.

II. Desired Focus of Comments

Currently, the Mine Safety and Health Administration (MSHA) is soliciting comments concerning the proposed extension of the information collection requirement related to testing, evaluation, and approval of Mining Products. MSHA is particularly interested in comments that:

* Evaluate whether the proposed collection of information is necessary for the proper performance of MSHA's functions, including whether the information has practical utility;

* Evaluate the accuracy of MSHA's estimate of the burden of the proposed collection of information, including the validity of the methodology and assumptions used;

* Suggest methods to enhance the quality, utility, and clarity of the information to be collected; and

* Address the use of appropriate automated, electronic, mechanical, or other technological collection techniques or other forms of information technology, (e.g., permitting electronic submissions of responses) to minimize the burden of the collection of information on those who are to respond.

A copy of the proposed information collection request can be obtained by contacting the employee listed in the ADDRESSES section of this notice or viewed on the Internet by accessing the MSHA home page (http://www.msha.gov) and then choosing “Statutory and Regulatory Information” and “Federal Register Documents.”

III. Current Actions

Title 30 CFR parts 6 through 36 require that an investigation leading to approval or certification will be undertaken by the A&CC only pursuant to a written application accompanied by prescribed drawings and specifications identifying the piece of equipment. This information is used by engineers and scientists to evaluate the design in conjunction with tests to assure conformance to standards prior to approval for use in mines.

Type of Review: Extension.

Agency: Mine Safety and Health Administration.

Title: Permissible Equipment Testing.

OMB Number: 1219-0066.

Affected Public: Business or other for-profit.

Cite/reference | Total respondents | Frequency | Total responses | Burden hours | Burden costs
Part 6 | 1 | On occasion | 2 | 2 | 0
Part 7 | 48 | On occasion | 120 | 1,391 | $573,048
Part 15 | 1 | On occasion | 2 | 10 | 6,472
Part 18 | 114 | On occasion | 383 | 996 | 378,962
Part 19 | 2 | On occasion | 5 | 22 | 19,513
Part 20 | 3 | On occasion | 6 | 49 | 17,092
Part 22 | 4 | On occasion | 17 | 60 | 80,082
Part 23 | 4 | On occasion | 6 | 23 | 13,756
Part 27 | 3 | On occasion | 4 | 21 | 15,193
Part 28 | 1 | On occasion | 3 | 20 | 29,175
Part 33 | 1 | On occasion | 3 | 20 | 10,383
Part 35 | 4 | On occasion | 6 | 144 | 14,284
Part 36 | 4 | On occasion | 5 | 30 | 6,200
TOTALS | 190 |  | 562 | 2,788 | 1,164,160.00

Respondents: 190.

Responses: 562.

Total Burden Hours: 2,788.

Total Burden Cost (capital/startup): $0.

Total Burden Cost (operating/maintaining): $1,164,160.

Comments submitted in response to this notice will be summarized and/or included in the request for Office of Management and Budget approval of the information collection request; they will also become a matter of public record.

Dated at Arlington, Virginia, this 26th day of April, 2005.
David L. Meyer,
Director, Office of Administration and Management.

[FR Doc. 05-8842 Filed 5-3-05; 8:45 am]

BILLING CODE 4510-43-P